CORPORATION FOR NATIONAL AND COMMUNITY SERVICE

Information Collection; Submission for OMB Review, Comment Request

AGENCY: Corporation for National and Community Service.

ACTION: Notice.

SUMMARY: The Corporation for National and Community Service (CNCS) has submitted a public information collection request (ICR) entitled VISTA Training Evaluation for review and approval in accordance with the Paperwork Reduction Act of 1995, Public Law 104-13, (44 U.S.C. chapter 35). Copies of this ICR, with applicable supporting documentation, may be obtained by calling the Corporation for National and Community Service, Craig Kinnear, at (202) 606-6708 or email to ckinnear@cns.gov. Individuals who use a telecommunications device for the deaf (TTY-TDD) may call 1-800-833-3722 between 8:00 a.m. and 8:00 p.m. Eastern Time, Monday through Friday.

ADDRESSES: Comments may be submitted, identified by the title of the information collection activity, to the Office of Information and Regulatory Affairs, Attn: Ms. Sharon Mar, OMB Desk Officer for the Corporation for National and Community Service, by any of the following two methods within 30 days from the date of publication in the Federal Register:

(1) By fax to: (202) 395-6974, Attention: Ms. Sharon Mar, OMB Desk Officer for the Corporation for National and Community Service; and

(2) Electronically by email to: smar@omb.eop.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology, e.g., permitting electronic submissions of responses.

Comments

A 60-day public comment Notice was published in the Federal Register on April 17, 2012. This comment period ended June 18, 2012. One public comment was received from this Notice, questioning why this information was not already available to CNCS staff. Our response is that the information being collected is more detailed than what has previously been collected regarding VISTA training.

Description: CNCS is seeking approval of the VISTA Training Evaluation instruments, which are used by staff to improve the efficiencies and effectiveness of VISTA Training.

Type of Review: New.

Agency: Corporation for National and Community Service.

Title: VISTA Training Evaluation.

OMB Number: None.

Agency Number: None.

Affected Public: VISTA Alumni & VISTA Project Sponsors.

Total Respondents: 635.

Frequency: Once.

Average Time per Response: 30 minutes.

Estimated Total Burden Hours: 317.5.

Total Burden Cost (capital/startup): None.

Total Burden Cost (operating/maintenance): None.

Dated: July 20, 2012.
Paul Davis,
Director of Program Development, AmeriCorps VISTA.

[FR Doc. 2012-18196 Filed 7-25-12; 8:45 am]

BILLING CODE 6050-$$-P